DEPARTMENT OF LABOR

Employment and Training Administration

[TA-W-70,784]

Chrysler Group LLC, Formally Known as Chrysler LLC, Kenosha Engine Plant, Including On-Site Leased Workers From Caravan Knight Facilities Management, LLC, Kenosha, WI; Amended Certification Regarding Eligibility To Apply for Worker Adjustment Assistance

In accordance with Section 223 of the Trade Act of 1974, as amended (“Act”), 19 U.S.C. 2273, the Department of Labor issued a Certification of Eligibility to Apply for Worker Adjustment Assistance on September 2, 2009, applicable to workers of Chrysler Group LLC, formally known as Chrysler, LLC, Kenosha Engine Plant, Kenosha, Wisconsin. The notice was published in the Federal Register on November 5, 2009 (74 FR 57340).

At the request of the State, the Department reviewed the certification for workers of the subject firm. The workers are engaged in activities in production of V-6 automobile engines.

The company reports that workers leased from Caravan Knight Facilities Management, LLC, were employed on-site at the Kenosha, Wisconsin location of Chrysler Group LLC, formally known as Chrysler, LLC, Kenosha Engine Plant. The Department has determined that these workers were sufficiently under the control of the subject firm to be considered leased workers.

Based on these findings, the Department is amending this certification to include workers leased from Caravan Knight Facilities Management, LLC, working on-site at the Kenosha, Wisconsin location of Chrysler Group LLC, formally known as Chrysler, LLC, Kenosha Engine Plant.

The amended notice applicable to TA-W-70,784 is hereby issued as follows:

All workers Chrysler Group LLC, formally known as Chrysler, LLC, Kenosha Engine Plant, including on-site leased workers from Caravan Knight Facilities Management, LLC, Kenosha, Wisconsin, who became totally or partially separated from employment on or after May 27, 2008, through September 2, 2011, and all workers in the group threatened with total or partial separation from employment on the date of certification through two years from the date of certification, are eligible to apply for adjustment assistance under Chapter 2 of Title II of the Trade Act of 1974, as amended.

Signed at Washington, DC, this 26th day of May 2010.
Richard Church,
Certifying Officer, Division of Trade Adjustment Assistance.

[FR Doc. 2010-14455 Filed 6-15-10; 8:45 am]

BILLING CODE 4510-FN-P